DEPARTMENT OF HEALTH AND HUMAN SERVICES

Administration for Children and Families

Proposed Information Collection Activity; Comment Request

Proposed Projects

Title: Developmental Disabilities Program Independent Evaluation Project.

OMB No.: 0970-0372.

Description: The National Independent Study of the State Developmental Disabilities Programs (National Study) is an independent (non-biased) study to examine through rigorous and comprehensive research procedures the three programs funded under the Developmental Disabilities Assistance and Bill of Rights Act of 2000 (DD Act): (1) State Councils on Developmental Disabilities (SCDDs); (2) State Protection and Advocacy Systems for Individuals with developmental disabilities (P&As); and (3) University Centers for Excellence in Developmental Disabilities (UCEDDs). The purpose of the study is to assess program effectiveness and achievements, including collaborative efforts among these state developmental disabilities (DD) network programs. A component of the study will be an examination of the Administration on Developmental Disabilities' efficiency and effectiveness to support these DD Network programs. The results of this evaluation will provide a report to the Administration on Developmental Disabilities (ADD) (the agency that administers these programs) with information on the effectiveness of its programs and policies and serve as a way for ADD to promote accountability to the public.

The independent study is a response to accountability requirements for ADD as identified in the Developmental Disabilities Assistance and Bill of Rights Act of 2000 (DD Act), the Government Performance and Results Act (GPRA) of 1993, and the Program Assessment Rating Tool (PART), previously administered by the Office of Management and Budget (OMB).

ADD has OMB approval for all the evaluation tools (e.g., data collection instruments) for this study, except a new one being proposed. The new evaluation tool would be an on-line survey tool designed to collect data for an assessment of ADD.

Respondents: For the ADD assessment survey being added, the respondents would be Staff of State Councils on Developmental Disabilities, State Protection and Advocacy Systems for Individuals with developmental disabilities, and University Centers for Excellence in Developmental Disabilities, Education, Research, and Service.

Annual Burden Estimates
Instrument | Number of respondents | Number of responses per respondent | Average burden hours per response | Total burden hours
DD Council: Executive Director Interview | 20 | 1 | 4 | 80
DD Council: Interview with Council Chair/Council Members | 60 | 1 | 0.75 | 45
DD Council: Group Interview with Policymakers, Collaborators, and Grantees | 160 | 1 | 2 | 320
UCEDD: Telephone Interview with Current and Graduated Students | 100 | 1 | 0.75 | 75
UCEDD: Interview with the Consumer Advisory Committee | 60 | 1 | 0.75 | 45
UCEDD: Interview with Peer Researchers and Colleagues | 100 | 1 | 0.75 | 75
UCEDD: Interview with Recipients of Community Services or Members of Organizations/Agencies that are Trained to Provide Community Services | 100 | 1 | 0.75 | 75
UCEDD: Self-administered Form | 20 | 1 | 8 | 160
P&A: Executive Director Interview | 20 | 1 | 4 | 80
P&A: Staff Interview | 60 | 1 | 0.75 | 45
P&A: Board of Directors (Commissioners)-Chair and Members | 60 | 1 | 0.75 | 45
P&A: Group Interview with Policymakers and Collaborators | 160 | 1 | 2 | 320
P&A: Interview with Recipient of Community Education | 100 | 1 | 0.75 | 75
P&A: Interview with Clients | 100 | 1 | 0.75 | 75
P&A: Self-administered Form | 20 | 1 | 8 | 160
UCEDD: Interview with Director | 20 | 1 | 4 | 80
DD Council: Group Interview with Recipients of Self-Advocacy and Leadership Education and Training | 100 | 1 | 0.75 | 75
DD Council: Group Interview with Recipients of Education and Training to Improve Community Capacity | 100 | 1 | 0.75 | 75
DD Council: Self-administered Form | 20 | 1 | 8 | 160
DD Council Estimate of Total Burden Hours for Activities to Support Administration of Proposed Information Collection Instruments | 20 | 1 | 33.50 | 670
P&A Estimate of Total Burden Hours for Activities to Support Administration of Proposed Information Collection Instruments | 20 | 1 | 33.50 | 670
UCEDD Estimate of Total Burden Hours for Activities to Support Administration of Proposed Information Collection Instruments | 20 | 1 | 33.50 | 670
ADD Assessment Survey | 60 | 1 | 0.75 | 45

Estimated Total Annual Burden Hours: 4,120.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 7, 2010.
Robert Sargis,
Reports Clearance Officer.

[FR Doc. 2010-14002 Filed 6-10-10; 8:45 am]

BILLING CODE 4184-01-P